DEPARTMENT OF ENERGY

Federal Energy Regulatory Commission

Combined Notice of Filings #2

October 5, 2005.

Take notice that the Commission received the following electric rate filings:

Docket Numbers: ER05-1513-000

Applicants: Virginia Electric and Power Company

Description: Virginia Electric & Power Co submits a notice of cancellation of certain service agreements with the Town of Windsor, North Carolina.

Filed Date: 09/30/2005

Accession Number: 20051004-0006

Comment Date: 5 p.m. Eastern Time on Friday, October 21, 2005.

Docket Numbers: ER05-1519-000

Applicants: Southwest Power Pool, Inc.

Description: Southwest Power Pool, Inc submits an executed Service Agreement for Network Integration Transmission Service with American Electric Power Service Corporation.

Filed Date: 09/30/2005

Accession Number: 20051004-0008

Comment Date: 5 p.m. Eastern Time on Friday, October 21, 2005.

Docket Numbers: ER05-1521-000

Applicants: California Independent System Operator Corporation

Description: California Independent System Operator Corp submits Amendment No. 1 to the Letter Agreement with the Bonneville Power Administration Transmission Business Line re their role as an intermediary control area.

Filed Date: 09/30/2005

Accession Number: 20051004-0010

Comment Date: 5 p.m. Eastern Time on Friday, October 21, 2005.

Docket Numbers: ER05-1522-000

Applicants: California Independent System Operator Corporation

Description: California Independent System Operator Corp submits the California-Oregon Intertie Control Area Operating Agreement with the Sacramento Municipal Utility District.

Filed Date: 09/30/2005

Accession Number: 20051004-0007

Comment Date: 5 p.m. Eastern Time on Friday, October 21, 2005.

Docket Numbers: ER05-1523-000

Applicants: Xcel Energy Services Inc.

Description: Xcel Energy Services Inc submits the Interconnection Agreement dated 5/1/04 for the Olivia Substation Point of Connection with the City Olivia, Minnesota.

Filed Date: 09/30/2005

Accession Number: 20051004-0009

Comment Date: 5 p.m. Eastern Time on Friday, October 21, 2005.

Docket Numbers: ER05-1524-000

Applicants: Xcel Energy Serivces Inc.

Description: Xcel Energy Services Inc on behalf of Northern States Power Co submits a Generation Interconnection Agreement with DanMar Transmission LLC.

Filed Date: 09/30/2005

Accession Number: 20051004-0011

Comment Date: 5 p.m. Eastern Time on Friday, October 21, 2005.

Docket Numbers: ER05-1526-000

Applicants: NorthWestern Corporation

Description: NorthWestern Corp submits an amendment to the Firm Point-to-Point Transmission Service Agreement 17-SD with the City of Bryant, South Dakota.

Filed Date: 09/30/2005

Accession Number: 20051004-0060

Comment Date: 5 p.m. Eastern Time on Friday, October 21, 2005.

Docket Numbers: ER05-1527-000

Applicants: NorthWestern Corporation

Description: NorthWestern Corp submits a Notice of Cancellation of its Service Agreement 2-SD with the City of Bryant, South Dakota.

Filed Date: 09/30/2005

Accession Number: 20051004-0059

Comment Date: 5 p.m. Eastern Time on Friday, October 21, 2005.

Docket Numbers: ER05-1528-000

Applicants: Wisconsin Electric Power Company

Description: Wisconsin Electric Power Co submits a notice of cancellation of an Interconnection Agreement dated 11/18/65, as subsequently amended by supplements, with Northern States Power Company.

Filed Date: 09/30/2005

Accession Number: 20051004-0005

Comment Date: 5 p.m. Eastern Time on Friday, October 21, 2005.

Docket Numbers: ER05-1529-000

Applicants: Duke Energy Corporation

Description: Duke Energy Corp on behalf Duke Power submits proposed revisions to FERC Rate Schedule No. 10-A pursuant to section 205 of the Federal Power Act.

Filed Date: 09/30/2005

Accession Number: 20051004-0004

Comment Date: 5 p.m. Eastern Time on Friday, October 21, 2005.

Docket Numbers: ER05-1530-000

Applicants: Wisconsin River Power Company

Description: Wisconsin River Power Co submits a new Combustion Turbine Power Purchase Contract with Wisconsin Public Service Corp et al designated as Original Rate Schedule No. 4.

Filed Date: 09/30/2005

Accession Number: 20051004-0003

Comment Date: 5 p.m. Eastern Time on Friday, October 21, 2005.

Docket Numbers: ER05-1531-000

Applicants: ISO New England Inc.

Description: ISO New England Inc submits materials which establish Hydro-Quebec Interconnection Capability Credit values for Power Year 2006/2007.

Filed Date: 09/30/2005

Accession Number: 20051004-0002

Comment Date: 5 p.m. Eastern Time on Friday, October 21, 2005.

Docket Numbers: ER05-1534-000

Applicants: American Electric Power Service Corporation

Description: AEP, as agent for Appalachian Power Co, submits revisions to the Interconnection and Local Delivery Service Agreement No. 1252 between Blue Ridge Power Agency, Inc and AEP.

Filed Date: 09/30/2005

Accession Number: 20051004-0213

Comment Date: 5 p.m. Eastern Time on Friday, October 21, 2005.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please e-mail FERCOnlineSupport@ferc.gov. or call (866) 208-3676 (toll free). For TTY, call (202) 502-8659.

Magalie R. Salas,
Secretary.

[FR Doc. E5-5573 Filed 10-11-05; 8:45 am]

BILLING CODE 6717-01-P